DEPARTMENT OF LABOR

Occupational Safety and Health Administration

[Docket No. NRTL-3-93]

Factory Mutual Research Corporation; Application for Renewal of Recognition

AGENCY: Occupational Safety and Health Administration (OSHA), Labor.

ACTION: Notice.

SUMMARY: This notice announces the application of Factory Mutual Research Corporation for renewal of its recognition as a Nationally Recognized Testing Laboratory (NRTL) under 29 CFR 1910.7, and presents the Agency's preliminary finding. This preliminary finding does not constitute an interim or temporary approval of this application.

DATES: Comments submitted by interested parties, or any request for extension of the time to comment, must be received no later than May 18, 2001.

ADDRESSES: Submit written comments concerning this notice to: Docket Office, Docket NRTL-3-93, U.S. Department of Labor, Occupational Safety and Health Administration, Room N2625, 200 Constitution Avenue, N.W., Washington, DC 20210; telephone: (202) 693-2350. Commenters may transmit written comments of 10 pages or less in length by facsimile to (202) 693-1648. Submit request for extension of the comment period for this notice to: Office of Technical Programs and Coordination Activities, NRTL Program, Occupational Safety and Health Administration, U.S. Department of Labor, Room N3653, 200 Constitution Avenue, NW, Washington, DC 20210.

FOR FURTHER INFORMATION CONTACT: Bernard Pasquet, Office of Technical Programs and Coordination Activities, NRTL Program, Room N3653 at the above address, or phone (202) 693-2110.

SUPPLEMENTARY INFORMATION:

Notice of Application

The Occupational Safety and Health Administration (OSHA) hereby gives notice that Factory Mutual Research Corporation (FMRC) has applied for renewal of its current recognition as a Nationally Recognized Testing Laboratory (NRTL). FMRC requests renewal for its existing scope of recognition. However, this scope will be modified, as explained later in this notice.

OSHA recognition of an NRTL signifies that the organization has met the legal requirements in Section 1910.7 of Title 29, Code of Federal Regulations (29 CFR 1910.7). Recognition is an acknowledgment that the organization can perform independent safety testing and certification of the specific products covered within its scope of recognition, and is not a delegation or grant of government authority. As a result of recognition, OSHA can accept products “properly certified” by the NRTL. OSHA processes applications related to an NRTL's recognition following requirements in Appendix A to 29 CFR 1910.7. This appendix requires that the Agency publish this public notice of the preliminary finding on an application.

FMRC's scope of recognition appears in OSHA's informational web page for the NRTL (http://www.osha-slc.gov/dts/otpca/nrtl/fmrc.html). OSHA maintains such a page for each NRTL. In general, OSHA grants an NRTL's scope of recognition in Federal Register notices. Following requirements in 29 CFR 1910.7, the Agency must publish two such notices in processing applications for an NRTL's initial recognition, and for expansions or renewal of this recognition. In the first notice, OSHA announces the application and provides its preliminary finding and, in the second notice, the Agency provides its final decision on an application. In the case of FMRC, and as further explained below, OSHA has renewed the NRTL's recognition once before, which the Agency announced on March 29, 1995 (60 FR 16167) and granted on August 16, 1995 (60 FR 42590). Following renewal, OSHA granted one expansion to FMRC, which the Agency announced on April 16, 1999 (64 FR 18939) and granted on August 13,1999 (64 FR 44240). The expansion covered a recognition of additional test standards.

The current addresses of the testing facilities (sites) that OSHA recognizes for FMRC are: Factory Mutual Research Corporation, 1151 Boston-Providence Turnpike, Norwood, Massachusetts 02062; and Factory Mutual Research Corporation, 743 Reynolds Road, West Gloucester, Rhode Island 02814.

General Background on the Applicant and the Application

When OSHA published its regulations for the NRTL Program at 29 CFR 1910.7, it temporarily recognized FMRC as a nationally recognized testing laboratory for a five year period from June 13, 1988, through June 13, 1993 (see Appendix A to 1910.7). In Appendix A, OSHA also required that FMRC apply for renewal of its OSHA recognition at the end of this temporary period. FMRC did apply for the renewal, which OSHA announced in March 1995, as noted above. In its renewal application, FMRC stated that it began testing products in 1886 and that its first published listings of approved fire hose appeared in 1907. The Agency granted FMRC's renewal for a period of five years ending on August 16, 2000.

Appendix A to 29 CFR 1910.7 stipulates that the period of recognition of an NRTL is five years and that an NRTL may renew its recognition by applying not less than nine months, nor more than one year, before the expiration date of its current recognition. FMRC has submitted a request, dated November 9, 1999 (see Exhibit 11), to renew its recognition, within the time allotted, and retains its recognition pending OSHA's final decision in this renewal process.

FMRC's existing scope of recognition consists of the facilities listed above, and the test standards and supplemental programs, listed below.

Test Standards

FMRC seeks renewal of its recognition for testing and certification of products to demonstrate compliance to the following 73 test standards, all of which OSHA has determined are appropriate within the meaning of 29 CFR 1910.7(c). Some of the test standards for which OSHA currently recognizes FMRC were no longer appropriate at the time of preparation of this preliminary notice, primarily because they have been withdrawn by the standards developing organization. OSHA has excluded these test standards in the listing below. However, under OSHA policy, the NRTL may request recognition for comparable standards. Since a number of NRTLs are affected by such withdrawn standards, OSHA will publish a separate notice to make the appropriate substitutions for FMRC and other NRTLs that were recognized for these standards. The Agency has contacted these NRTLs regarding this matter.

OSHA's recognition of FMRC or any NRTL for a particular test standard is limited to equipment or materials (i.e., products) for which OSHA standards require third party testing and certification before use in the workplace. As a result, OSHA's recognition of an NRTL for a test standard excludes any product(s), falling within the scope of the test standard, for which OSHA has no such requirements.

ANSI ICS 2 Industrial Control Devices, Controllers and Assemblies

ANSI S12.12 Electrical Equipment for Use in Class I, Division 2, Hazardous (Classified) Locations

ANSI S12.15 Hydrogen Sulfide Detection Instruments

ANSI S82.02.01 Electric and Electronic Test, Measuring, Controlling, and Related Equipment: General Requirements

ANSI S82.02.02 Electrical Equipment for Measurement, Control, and Laboratory Use

ANSI Z8.1 Commercial Laundry and Drycleaning Equipment and Operations

UL 8 Foam Fire Extinguishers

ANSI11 Low Expansion Foam and Combined Agent Systems

ANSI 11A Medium-and High-Expansion Foam Systems

ANSI 12 Carbon Dioxide Extinguishing Systems

ANSI 12A Halon 1301 Fire Extinguishing Agent Systems

ANSI 13 Installation of Sprinkler Systems

ANSI 16 Deluge Foam-Water Sprinkler and Spray Systems

ANSI 17 Dry Chemical Extinguishing Systems

ANSI 20 Centrifugal Fire Pumps

UL 38 Manually Actuated Signaling Boxes for Use With Fire-Protective Signaling Systems

ANSI 72 Installation, Maintenance, and Use of Protective Signaling Systems

UL 154 Carbon-Dioxide Fire Extinguishers

UL 162 Foam Equipment and Liquid Concentrates

ANSI 250 Enclosures for Electrical Equipment

UL 299 Dry Chemical Fire Extinguishers

UL 346 Waterflow Indicators for Fire Protective Signaling Systems

UL 347 High-Voltage Industrial Control Equipment

UL 508 Electric Industrial Control Equipment

UL 558 Industrial Trucks, Internal Combustion Engine-Powered

UL 583 Electric-Battery-Powered Industrial Trucks

UL 626 2½ Gallon Stored-Pressure, Water-Type Fire Extinguishers

UL 664 Commercial (Class IV) Electric Dry-Cleaning Machines

UL 674 Electric Motors and Generators for Use in Hazardous (Classified) Locations

UL 698 Industrial Control Equipment for Use in Hazardous (Classified) Locations

UL 711 Rating and Fire Testing of Fire Extinguishers

UL 753 Alarms Accessories for Automatic Water-Supply Control Valves

UL 781 Portable Electric Lighting Units for Use in Hazardous (Classified) Locations

UL 823 Electric Heaters for Use in Hazardous (Classified) Locations

UL 827 Central-Stations for Watchmen, Fire-Alarm, and Supervisory Services

UL 844 Electric Lighting Fixtures for Use in Hazardous (Classified) Locations

UL 863 Time-Indicating and -Recording Appliances

UL 864 Control Units for Fire-Protective Signaling Systems

UL 877 Circuit Breakers and Circuit-Breaker Enclosure for Use in Hazardous (Classified) Locations

UL 886 Electrical Outlet Boxes and Fittings for Use in Hazardous (Classified) Locations

UL 894 Switches for Use in Hazardous (Classified) Locations

UL 913 Intrinsically Safe Apparatus and Associated Apparatus for Use In Class I, II, and III, Division I, Hazardous (Classified) Locations

UL 1002 Electrically Operated Valve for Use in Hazardous (Classified) Locations

UL 1058 Halogen Agent Extinguishing System Units

UL 1093 Halogenated Agent Fire Extinguishers

FMRC 1110 Indicator Posts

UL 1203 Explosion-Proof and Dust-Ignition-Proof Electrical Equipment for Use in Hazardous (Classified) Locations

UL 1206 Electrical Commercial Clothes-Washing Equipment

UL 1207 Sewage Pumps for Use in Hazardous (Classified) Locations

FMRC 1221 Backflow Preventers

UL 1236 Battery Chargers for Charging Engine-Starter Batteries

UL 1240 Electric Commercial Clothes-Drying Equipment

UL 1254 Pre-Engineered Dry Chemical Extinguishing System Units

UL 1262 Laboratory Equipment

FMRC 1321 Controllers for Electric Motor Driven Fire Pumps

FMRC 1333 Diesel Engine Fire Pump Drivers

FMRC 1635 Plastic Pipe and Fittings for Automatic Sprinkler Systems

UL 1950 Information Technology Equipment Including Electrical Business Equipment

FMRC 2000 Automatic Sprinklers for Fire Protection

FMRC 2008 Early Suppression-Fast Response (ESFR) Automatic Sprinklers

FMRC 3260 Flame Radiation Detectors for Automatic Fire Alarm Signaling

FMRC 3600 Electrical Equipment for Use in Hazardous (Classified) Locations, General Requirements

FMRC 3610 Intrinsically Safe Apparatus and Associated Apparatus for Use in Class I, I and III, Division 1 Hazardous (Classified) Locations

FMRC 3611 Electrical Equipment for Use in Class I, Division 2; Class II, Division 2; and Class III, Division 1 and 2 Hazardous Locations

FMRC 3615 Explosion proof Electrical Equipment, General Requirements

FMRC 3620 Purged and Pressurized Electrical Equipment for Hazardous (Classified) Locations

FMRC 3810 Electrical and Electronic Test, Measuring, and Process Control Equipment

FMRC 3990 Less or nonflammable Liquid-Insulated Transformers

FMRC 6051 Safety Containers and Filing, Supply and Disposal Containers

FMRC 6310 Combustible Gas Detectors

FMRC 7812 Industrial Trucks—LP-Gas

FMRC 7816 Industrial Trucks—LP-Gas Dual Fuel

FMRC 7820 Industrial Trucks—Electric

Note: Testing and certification of gas operated equipment is limited to equipment for use with “liquefied petroleum gas” (“LPG” or “LP-Gas”).

The designations and titles of the above test standards were current at the time of the preparation of this notice.

Many of the test standards listed above are approved as American National Standards by the American National Standards Institute (ANSI). However, for convenience in compiling the list, we show the designation of the standards developing organization (e.g., UL 1950) for the standard, as opposed to the ANSI designation (e.g., ANSI/UL 1950). Under our procedures, an NRTL recognized for an ANSI-approved test standard may use either the latest proprietary version of the test standard or the latest ANSI version of that standard, regardless of whether it is currently recognized for the proprietary or ANSI version. Contact ANSI or the ANSI web site to find out whether or not a standard is currently ANSI-approved.

Programs and Procedures

FMRC's renewal also covers use of the supplemental programs listed below, based upon the criteria detailed in the March 9, 1995 Federal Register notice (60 FR 12980, 3/9/95). This notice lists nine (9) programs and procedures (collectively, programs), eight of which (called supplemental programs) an NRTL may use to rely on other parties to perform product testing and evaluation activities. An NRTL's initial recognition will always include the first or basic program, which requires that all of these activities be performed in-house by the NRTL that will certify the product. OSHA previously granted FMRC recognition to use these programs, which currently are listed in OSHA's informational web page on the FMRC recognition.

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

OSHA developed the program descriptions to limit how an NRTL may perform certain aspects of its work and to accept the activities covered under a program only when the NRTL meets certain criteria. In this sense, they are special conditions that the Agency places on an NRTL's recognition. OSHA does not consider these programs in determining whether an NRTL meets the requirements for recognition under 29 CFR 1910.7. However, OSHA does treat these programs as one of the three elements that defines an NRTL's scope of recognition.

Preliminary Finding on the Application

FMRC has submitted an acceptable request for renewal of its recognition as an NRTL. While processing this request, OSHA performed an on-site review of FMRC's NRTL testing facilities. FMRC has addressed any discrepancies noted by the assessor following the on-site evaluation, and the assessor has recommended renewal of FMRC's recognition (see Exhibit 12).

Following a review of the application file, the assessor's recommendation, and other pertinent documents, the NRTL Program staff has concluded that OSHA can grant to FMRC the renewal of its recognition as an NRTL to use the facilities, test standards, and programs listed above. The staff, therefore, recommended to the Assistant Secretary that the application be preliminarily approved.

Based upon the recommendation of the staff, the Agency has made a preliminary finding that the Factory Mutual Research Corporation can meet the requirements, as prescribed by 29 CFR 1910.7, for the renewal of its recognition. This preliminary finding does not constitute an interim or temporary approval of the application.

OSHA welcomes public comments, in sufficient detail, as to whether FMRC has met the requirements of 29 CFR 1910.7 for renewal of its recognition as a Nationally Recognized Testing Laboratory. Your comment should consist of pertinent written documents and exhibits. To consider it, OSHA must receive the comment at the address provided above (see ADDRESS) no later than the last date for comments (see DATES above). Should you need more time to comment, OSHA must receive your written request for extension at the address provided above (also see ADDRESS) no later than the last date for comments (also see DATES above). You must include your reason(s) for any request for extension. OSHA will limit an extension to 15 days unless the requester justifies a longer period. We may deny a request for extension if it is frivolous or otherwise unwarranted. You may obtain or review copies of FMRC's requests, the memo on the recommendation, and all submitted comments, as received, by contacting the Docket Office, Room N2625, Occupational Safety and Health Administration, U.S. Department of Labor, at the above address. You should refer to Docket No. NRTL3-93, the permanent record of public information on FMRC's recognition.

The NRTL Program staff will review all timely comments and, after resolution of issues raised by these comments, will recommend whether to grant FMRC's application for renewal of recognition. The Agency will make the final decision on granting the renewal and, in making this decision, may undertake other proceedings that are prescribed in Appendix A to 29 CFR Section 1910.7. OSHA will publish a public notice of this final decision in the Federal Register.

Signed at Washington, DC this 26th day of April 2001.
R. Davis Layne,
Acting Assistant Secretary.

[FR Doc. 01-11245 Filed 5-3-01; 8:45 am]

BILLING CODE 4510-26-P